DEPARTMENT OF TRANSPORTATION

Federal Railroad Administration

[Docket Number FRA-2019-0008]

Petition for Waiver of Compliance

Under part 211 of Title 49 Code of Federal Regulations (CFR), this document provides the public notice that on January 31, 2019, the Knoxville & Holston River Railroad (KXHR) petitioned the Federal Railroad Administration (FRA) for a waiver of compliance from certain provisions of the Federal railroad safety regulations contained at 49 CFR parts 215 and 224. FRA assigned the petition Docket Number FRA-2019-0008.

Specifically, KXHR requests relief from 49 CFR 215.303, Stenciling of restricted cars, for 5 freight cars (Car Nos. KXHR 9, KXHR 11, KXHR 1101, KXHR 2614, and KXHR 10048). Petitioner also requests a Special Approval under 49 CFR 215.203(c), because these cars are older than 50 years of age from the date of original construction. KXHR also requests relief from 49 CFR part 224, Reflectorization of Rail Freight Rolling Stock, for these same 5 cars.

KXHR states it has kept the cars for educational purposes and the occasional antique freight train for photographers to preserve a small portion of railroad history. KXHR wishes to preserve period-correct stenciling for aesthetics reasons. All cars will be empty. The maximum speed of these cars is 10 miles per hour. KXHR explains the cars have been inspected and found to be safe and suitable for service to operate under the conditions set forth in the petition. The territorial limits of the operation are within KXHR's trackage and only KXHR will operate these cars.

A copy of the petition, as well as any written communications concerning the petition, is available for review online at www.regulations.gov and in person at the U.S. Department of Transportation's (DOT) Docket Operations Facility, 1200 New Jersey Avenue SE, W12-140, Washington, DC 20590. The Docket Operations Facility is open from 9 a.m. to 5 p.m., Monday through Friday, except Federal Holidays.

Interested parties are invited to participate in these proceedings by submitting written views, data, or comments. FRA does not anticipate scheduling a public hearing in connection with these proceedings since the facts do not appear to warrant a hearing. If any interested parties desire an opportunity for oral comment and a public hearing, they should notify FRA, in writing, before the end of the comment period and specify the basis for their request.

All communications concerning these proceedings should identify the appropriate docket number and may be submitted by any of the following methods:

• Website: http://www.regulations.gov. Follow the online instructions for submitting comments.

• Fax: 202-493-2251.

• Mail: Docket Operations Facility, U.S. Department of Transportation, 1200 New Jersey Avenue SE, W12-140, Washington, DC 20590.

• Hand Delivery: 1200 New Jersey Avenue SE, Room W12-140, Washington, DC 20590, between 9 a.m. and 5 p.m., Monday through Friday, except Federal Holidays.

Communications received by June 21, 2019 will be considered by FRA before final action is taken. Comments received after that date will be considered as far as practicable.

Anyone can search the electronic form of any written communications and comments received into any of our dockets by the name of the individual submitting the comment (or signing the document, if submitted on behalf of an association, business, labor union, etc.). In accordance with 5 U.S.C. 553(c), DOT solicits comments from the public to better inform its processes. DOT posts these comments, without edit, including any personal information the commenter provides, to www.regulations.gov, as described in the system of records notice (DOT/ALL-14 FDMS), which can be reviewed at https://www.transportation.gov/privacy. See also https://www.regulations.gov/privacyNotice for the privacy notice of regulations.gov.

Issued in Washington, DC.
John Karl Alexy,
Deputy Associate Administrator, Office of Railroad Safety.

[FR Doc. 2019-09240 Filed 5-6-19; 8:45 am]

BILLING CODE 4910-06-P